INTERNATIONAL TRADE COMMISSION

[Investigation No. 337-TA-860]

Certain Optoelectronic Devices for Fiber Optic Communications, Components Thereof, and Products Containing Same; Commission Determination Not To Review an Initial Determination Granting Complainants Avago Technologies General IP (Singapore) Pte. Ltd.'s and Avago Technologies U.S. Inc.'s Motion To Amend the Complaint and Notice of Investigation

AGENCY: U.S. International Trade Commission.

ACTION: Notice.

SUMMARY: Notice is hereby given that the U.S. International Trade Commission (“the Commission”) has determined not to review an initial determination (“ID”) (Order No. 8) issued by the presiding administrative law judge (“ALJ”) in the above-captioned investigation granting a motion of complainants Avago Technologies General IP (Singapore) Pte. Ltd. of Singapore (“Avago General IP”) and Avago Technologies U.S. Inc. of San Jose, California (“Avago Technologies”) to amend the complaint and notice of investigation (“NOI”).

FOR FURTHER INFORMATION CONTACT: Michael Liberman, Esq., Office of the General Counsel, U.S. International Trade Commission, 500 E Street, SW., Washington, DC 20436, telephone (202) 205-3115. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by notice on October 25, 2012, based upon a complaint filed by Avago Technologies Fiber IP (Singapore) Pte. Ltd. of Singapore (“Avago Fiber IP”); Avago General IP and Avago Technologies alleging a violation of section 337 in the importation, sale for importation, or sale within the United States after importation of certain optoelectronic devices for fiber optic communications, components thereof, and products containing the same by reason of infringement of certain claims of U.S. Patent Nos. 6,947,456 and 5,596,595 (collectively, “Asserted Patents”). 77 FR 65713 (Oct. 30, 2012). The Commission named IPtronics A/S of Roskilde, Denmark; IPtronics Inc. of Menlo Park, California; FCI USA, LLC, of Etters, Pennsylvania; FCI Deutschland GmbH of Berlin, Germany; FCI SA of Guyancourt, France; Mellanox Technologies, Inc. of Sunnyvale, California; and Mellanox Technologies Ltd. of Yokneam, Israel (collectively, “Respondents”) as respondents. The Commission also named the Office of Unfair Import Investigations (“OUII”) as a party in this investigation.

On December 21, 2012, complainants Avago General IP and Avago Technologies (collectively, “Avago”) filed a motion to amend the complaint and NOI to reflect the merger of original complainants, Avago Fiber IP and Avago General IP. Avago also moved to amend the complaint and NOI to reflect the change in ownership of the Asserted Patents from Avago Fiber IP to Avago General IP by virtue of an assignment from the merger. The motion states that Avago General IP remains the sole surviving entity as a result of the merger and that the OUII does not oppose the motion. On January 4, 2013, Respondents opposed the motion. Specifically, the Respondents opposed the withdrawal of Avago Fiber IP as a complainant; they did not oppose the amendments that reflect the assignment of the Asserted Patents to Avago General IP.

On February 7, 2013, the ALJ issued the subject ID granting Avago's motion. The ALJ found that good cause exists and that the interests of the parties and the public will be best served by amending the complaint and NOI. No party petitioned for review of the ID. The Commission has determined not to review the subject ID.

The authority for the Commission's determination is contained in section 337 of the Tariff Act of 1930, as amended, 19 U.S.C. 1337, and in sections 210.21 and 210.42(h) of the Commission's Rules of Practice and Procedure, 19 CFR 210.21, 210.42(h).

Issued: March 8, 2013.
By order of the Commission.
Lisa R. Barton,
Acting Secretary to the Commission.

[FR Doc. 2013-05865 Filed 3-13-13; 8:45 am]

BILLING CODE 7020-02-P